SECURITIES AND EXCHANGE COMMISSION

[Release No. 34-77267; File No. SR-NASDAQ-2016-005]

Self-Regulatory Organizations; The Nasdaq Stock Market LLC; Notice of Withdrawal of Proposed Rule Change To Adopt Limit Order Protection and Market Order Protection

March 1, 2016.

On January 12, 2016, The Nasdaq Stock Market LLC (the “Exchange”) filed with the Securities and Exchange Commission (the “Commission”), pursuant to Section 19(b)(1) of the Securities Exchange Act of 1934 ¹ and Rule 19b-4 thereunder,² a proposed rule change to adopt a Limit Order Protection and a Market Order Protection feature for members accessing the Exchange. The proposed rule change was published for comment in the Federal Register on January 27, 2016.³ The Commission received no comment letters on the proposal. On February 26, 2016, the Exchange withdrew the proposed rule change.

¹ 15 U.S.C. 78s(b)(1).

² 17 CFR 240.19b-4.

³ See Securities Exchange Act Release No. 76956 (January 21, 2016), 81 FR 4684.

⁴ 17 CFR 200.30-3(a)(12).

For the Commission, by the Division of Trading and Markets, pursuant to delegated authority.⁴
Robert W. Errett,
Deputy Secretary.

[FR Doc. 2016-04909 Filed 3-4-16; 8:45 am]

BILLING CODE 8011-01-P